DEPARTMENT OF THE INTERIOR

Bureau of Land Management

[BLM_NV_FRN_MO# 4500177747]

Notice of Public Meeting: Sierra Front-Northern Great Basin Resource Advisory Council

AGENCY: Bureau of Land Management, Department of Interior.

ACTION: Notice of public meeting.

SUMMARY: In accordance with the Federal Land Policy and Management Act and the Federal Advisory Committee Act of 1972, the U.S. Department of the Interior's Bureau of Land Management (BLM) Sierra Front-Northern Great Basin Resource Advisory Council (RAC) will meet as indicated below.

DATES: The Sierra Front-Northern Great Basin RAC will hold an in-person meeting with a virtual participation option on Thursday, April 11, 2024. The RAC will also host a field tour on Friday, April 12. The meeting will be held from 8 a.m. to 5 p.m. Pacific Time (PT) and may end earlier or later depending on the needs of group members. The field tour will begin at 8 a.m. and conclude at approximately 1 p.m. PT.

ADDRESSES: The meeting will be held at the BLM Carson City District Office, 5665 Morgan Mill Road, Carson City, Nevada 89701. Individuals that prefer to participate in the April 11 meeting virtually must register by visiting the RAC's web page at least one week in advance of the meeting at https://www.blm.gov/get-involved/resource-advisory-council/near-me/nevada. Individuals participating in the April 12 field tour will meet at 8 a.m. PT at the Carson City District Office (5665 Morgan Mill Road) and travel to the Naval Air Station Fallon area east of Fallon, Nevada.

Written comments can be mailed to: BLM Carson City District Office, Attn: Lisa Ross, RAC Coordinator; 5665 Morgan Mill Road, Carson City, NV 89701. Comments can also be submitted by email to lross@blm.gov with the subject line: BLM Sierra Front-Northern Great Basin RAC.

FOR FURTHER INFORMATION CONTACT: Lisa Ross, RAC Coordinator, by telephone at (775) 885-6107, or by email at lross@blm.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The 15-member BLM Sierra Front-Northern Great Basin RAC serves in an advisory capacity concerning issues relating to land use planning and the management of the public land resources located within the BLM's Elko, Winnemucca, and Carson City Districts. Meetings are open to the public in their entirety and a public comment period will be held near the end of the meeting.

Agenda items for the April 11 meeting include district updates; discussion regarding the Sand Mountain Recreation Area, Mining Law, and Tribal Consultation Process; and an overview of the Utility-Scale Solar Energy Development Programmatic Environmental Impact Statement. The field tour will offer participants the opportunity to view and discuss resource/mitigation issues associated with the proposed expansion of Naval Air Station Fallon and the Sand Mountain Recreation Area. The field tour will conclude at approximately 1 p.m. PT. Members of the public are welcome on field tours but must provide their own transportation and meals.

Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

The final meeting agenda will be available two weeks in advance of the meeting on the RAC's web page at https://www.blm.gov/get-involved/resource-advisory-council/near-me/nevada.

Interested persons may make verbal presentations to the RAC during the meeting or file written statements. Such requests should be made to RAC Coordinator Lisa Ross prior to the public comment period. Depending on the number of people who wish to speak, the time for individual comments may be limited.

Before including your address, phone number, email address, or other personal identifying information in your comments, please be aware that your entire comment, including your personal identifying information, may be made publicly available at any time. While you can ask us in your comment to withhold your personal identifying information from public review, we cannot guarantee that we will be able to do so.

(Authority: 43 CFR 1784.4-2)

Kimberly D. Dow,
Designated Federal Officer, BLM Carson City District Manager.

[FR Doc. 2024-03143 Filed 2-15-24; 8:45 am]

BILLING CODE 4331-21-P